DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on January 1, 2025, through January 31, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Nicholas Santuccione on behalf of Estate of D. S., Deceased, Schenectady, New York, Court of Federal Claims No: 25-0001V

2. Abigail Schwarz, Dresher, Pennsylvania, Court of Federal Claims No: 25-0002V

3. Linda Maranto, Bel Air, Maryland, Court of Federal Claims No: 25-0004V

4. Arline Browning, Charleston, South Carolina, Court of Federal Claims No: 25-0005V

5. Tammy Weber, Stuart, Florida, Court of Federal Claims No: 25-0006V

6. Jose Luis Ramas, Katy, Texas, Court of Federal Claims No: 25-0008V

7. Joe Miller and Jaszmin Miller on behalf of J.M., Fridley, Minnesota, Court of Federal Claims No: 25-0009V

8. Kristen Bryk, Albany, New York, Court of Federal Claims No: 25-0010V

9. Jesse Pattison, Boston, Massachusetts, Court of Federal Claims No: 25-0011V

10. Ginger Terrill on behalf of Estate of Carol Terrill, Deceased, Jenks, Oklahoma, Court of Federal Claims No: 25-0012V

11. Khoa Nguyen, Shoreline, Washington, Court of Federal Claims No: 25-0014V

12. Carolyn Garofano, Lauderdale-by-the-Sea, Florida, Court of Federal Claims No: 25-0017V

13. Patrick Wells, Clinton Township, Michigan, Court of Federal Claims No: 25-0019V

14. David Klingler, Freemont, Michigan, Court of Federal Claims No: 25-0022V

15. Prentice Lee, Fox Lake, Wisconsin, Court of Federal Claims No: 25-0023V

16. Tamala Berrong on behalf of Estate of Jordan Berrong, Deceased, Los Angeles, California, Court of Federal Claims No: 25-0024V

17. Anne Baugh, Kansas City, Kansas, Court of Federal Claims No: 25-0025V

18. Diana Dillard, Boston, Massachusetts, Court of Federal Claims No: 25-0026V

19. David Inkrote, New York, New York, Court of Federal Claims No: 25-0028V

20. Victoria Donlan, Lincoln, Nebraska, Court of Federal Claims No: 25-0029V

21. Jeremiah McMillon, Jefferson City, Missouri, Court of Federal Claims No: 25-0030V

22. Paul Vincent Eacuello, Lincoln, Rhode Island, Court of Federal Claims No: 25-0031V

23. Nicole Anderson, North Conway, New Hampshire, Court of Federal Claims No: 25-0032V

24. Gary Jansen, Warrenville, Illinois, Court of Federal Claims No: 25-0033V

25. Barry Cohen, New York, New York, Court of Federal Claims No: 25-0037V

26. Teresa Petrovic, Racine, Wisconsin, Court of Federal Claims No: 25-0038V

27. Cecilia Smith, Greenville, South Carolina, Court of Federal Claims No: 25-0039V

28. James Rigdon, Richmond, Kentucky, Court of Federal Claims No: 25-0040V

29. Stephanie Scheele, Boston, Massachusetts, Court of Federal Claims No: 25-0041V

30. Reina Isabel Henisey, Houston, Texas, Court of Federal Claims No: 25-0042V

31. Lacey N. Baker, Rhinelander, Wisconsin, Court of Federal Claims No: 25-0043V

32. Henry Karsen, Homosassa, Florida, Court of Federal Claims No: 25-0044V

33. Carlo Giovannelli, Boca Raton, Florida, Court of Federal Claims No: 25-0045V

34. Heidi Prudente, Hackettstown, New Jersey, Court of Federal Claims No: 25-0046V

35. Roger Barnaby, Corpus Christi, Texas, Court of Federal Claims No: 25-0047V

36. Justin Crosby, Conway, South Carolina, Court of Federal Claims No: 25-0049V

37. William Wood, Denver, Colorado, Court of Federal Claims No: 25-0050V

38. Mark Tapp, San Antonio, Texas, Court of Federal Claims No: 25-0051V

39. Brittany Abramson, Northbrook, Illinois, Court of Federal Claims No: 25-0053V

40. Bobby Ottinger, San Antonio, Texas, Court of Federal Claims No: 25-0057V

41. Teresa Ripley, Henderson, Nevada, Court of Federal Claims No: 25-0060V

42. Santos Diaz, Uvalde, Texas, Court of Federal Claims No: 25-0061V

43. Ryan Whittington, Lake Charles, Louisiana, Court of Federal Claims No: 25-0065V

44. Janyce Majerus on behalf of K. M., Plaquemine, Louisiana, Court of Federal Claims No: 25-0067V

45. Camellia Cunningham on behalf of I. C., Tampa, Florida, Court of Federal Claims No: 25-0068V

46. Elizabeth Andersen, Amery, Wisconsin, Court of Federal Claims No: 25-0069V

47. James A. Taylor, Nutter Fort, West Virginia, Court of Federal Claims No: 25-0072V

48. Ruth A. Gahagen, Pittsburgh, Pennsylvania, Court of Federal Claims No: 25-0073V

49. Joshua Nardie, Alameda, California, Court of Federal Claims No: 25-0074V

50. Jing Ding, Berkely, California, Court of Federal Claims No: 25-0083V

51. Michelle Dennis, Durham, North Carolina, Court of Federal Claims No: 25-0084V

52. Najmeh Khadem, Newport Beach, California, Court of Federal Claims No: 25-0086V

53. Joy E. Cornish Bowden, Tracy, California, Court of Federal Claims No: 25-0098V

54. Yenny Khizhnyak, Bay Shore, New York, Court of Federal Claims No: 25-0099V

55. James D. Cook, Green Bay, Wisconsin, Court of Federal Claims No: 25-0100V

56. Melchizedek Williams, Farmington Hills, Michigan, Court of Federal Claims No: 25-0102V

57. Miranda Elizabeth Holder, Honolulu, Hawaii, Court of Federal Claims No: 25-0103V

58. Sandra M. Reynolds, Grass Valley, California, Court of Federal Claims No: 25-0105V

59. Elizabeth Flores, Levittown, Pennsylvania, Court of Federal Claims No: 25-0108V

60. Ellen Lough, Havre de Grace, Maryland, Court of Federal Claims No: 25-0109V

61. Lisa D. Holmes, Charlotte, North Carolina, Court of Federal Claims No: 25-0110V

62. Tracy Lieser, Minneapolis, Minnesota, Court of Federal Claims No: 25-0113V

63. Felicia Pierre, Hartsville, South Carolina, Court of Federal Claims No: 25-0114V

64. Stacy Elliott, Long Beach, California, Court of Federal Claims No: 25-0116V

65. Jennifer Larimore, Wexford, Pennsylvania, Court of Federal Claims No: 25-0120V

66. James Behn, Summit, Wisconsin, Court of Federal Claims No: 25-0124V

67. Patricia Bader, Mullica Hill, New Jersey, Court of Federal Claims No: 25-0129V

68. Terri Haught, Greeneville, Tennessee, Court of Federal Claims No: 25-0131V

69. Linden Barrett, Walled Lake, Michigan, Court of Federal Claims No: 25-0136V

70. Taylor Salonen, Sioux Falls, North Dakota, Court of Federal Claims No: 25-0139V

71. Olivia Grace Elliott, Long Beach, California, Court of Federal Claims No: 25-0142V

72. Cynthia E. Coronel, San Francisco, California, Court of Federal Claims No: 25-0144V

73. Christopher Truhan, Westlake Village, California, Court of Federal Claims No: 25-0147V

74. Deborah Crawford, Kennesaw, Georgia, Court of Federal Claims No: 25-0148V

75. Ginger Miletich, Franklin, Wisconsin, Court of Federal Claims No: 25-0150V

76. Brittany Shumpert, West Allis, Wisconsin, Court of Federal Claims No: 25-0151V

77. Jennifer Kaczor, Latham, New York, Court of Federal Claims No: 25-0156V

78. Matthew Thomas, Dothan, Alabama, Court of Federal Claims No: 25-0157V

79. Richard O'Brien, Charlotte, North Carolina, Court of Federal Claims No: 25-0159V

80. Charlene Messenger, Satellite Beach, Florida, Court of Federal Claims No: 25-0161V

81. Steven Spiker, Kennewick, Washington, Court of Federal Claims No: 25-0162V

82. Lorraine Kelly, Burlington, Massachusetts, Court of Federal Claims No: 25-0163V

83. Carolyn L. Jordan, Grand Rapids, Michigan, Court of Federal Claims No: 25-0164V

84. Carl F. Self, Oshkosh, Wisconsin, Court of Federal Claims No: 25-0167V

85. Laura Smith, Normal, Illinois, Court of Federal Claims No: 25-0168V

86. Jessica O. Gillette, Long Beach, California, Court of Federal Claims No: 25-0171V

87. Adam Recla, Black River Falls, Wisconsin, Court of Federal Claims No: 25-0173V

88. Denise Sherman, Staten Island, New York, Court of Federal Claims No: 25-0174V

89. Jackie Tondalo, Shelton, Connecticut, Court of Federal Claims No: 25-0177V

90. Michelle D. Sharf, Cleveland, Ohio, Court of Federal Claims No: 25-0178V

91. Randy Prisco, LaPlace, Louisiana, Court of Federal Claims No: 25-0179V

92. Trudy Hodgson, New Orleans, Louisiana, Court of Federal Claims No: 25-0180V

93. Sally Ali, Los Angeles, California, Court of Federal Claims No: 25-0181V

94. Megan Haynes, Huntley, Illinois, Court of Federal Claims No: 25-0182V

95. Wendy Tully, Pocomoke City, Maryland, Court of Federal Claims No: 25-0184V

96. Travis Rowe, Springfield, Ohio, Court of Federal Claims No: 25-0186V

97. Stacey Wright, Reno, Nevada, Court of Federal Claims No: 25-0187V

98. Emily Rampton, Pleasonton, California, Court of Federal Claims No: 25-0188V

99. Sallie West on behalf of Estate of James West Jr, Deceased, Kerrville, Texas, Court of Federal Claims No: 25-0189V

[FR Doc. 2025-05473 Filed 3-28-25; 8:45 am]

BILLING CODE 4165-15-P